DEPARTMENT OF ENERGY

Federal Energy Regulatory Commission

[Docket No. RP02-4-000]

Maritimes & Northeast Pipeline L.L.C.; Notice of Proposed Changes in FERC Gas Tariff

October 4, 2001.

Take notice that on October 1, 2001, Maritimes & Northeast Pipeline, L.L.C. (Maritimes) tendered for filing as part of its FERC Gas Tariff, First Revised Volume No. 1, Second Revised Sheet No. 11 to become effective on November 1, 2001.

Maritimes states that it is making this Fuel Retainage Quantity (“FRQ”) filing, pursuant to Section 20 of the General Terms and Conditions of its FERC Gas Tariff.

Maritimes is proposing no change in its current Fuel Retainage Percentages for the four calendar periods beginning November 1, 2001. Maritimes states that even though it over recovered its fuel quantity for the prior calendar period, Maritimes is projecting an increase in fuel use over that period actuals as a result of the installation and operation of the two new compressors units located at its Baileyville and Richmond, Maine Compressor Stations.

Maritimes projects that the increased fuel requirements of the two compressors will offset previous over collection in company fuel use gas. Sheet No. 11 has been revised to clearly state the four seasonal calendar periods.

Maritimes also states that it is submitting the calculation of the FRQ deferral allocation, pursuant to Section 20 which provides that Maritimes will calculate surcharges or refunds designed to amortize the net monetary value of the balance in the FRQ Deferred Account at the end of the previous accumulation period. Maritimes states that for the period August 1, 2000 through July 31, 2001, the FRQ Deferred Account resulted in a net credit balance of approximately $905,057.07, inclusive of carrying charges, that will be refunded to Maritimes' customers, based on the allocation of the account balance over the actual throughput during the accumulation period, exclusive of backhauls.

Maritimes states that copies of this filing were mailed to all affected customers of Maritimes and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25506 Filed 10-10-01; 8:45 am]

BILLING CODE 6717-01-P